ENVIRONMENTAL PROTECTION AGENCY

[ER-FRL-9048-2]

Environmental Impact Statements; Notice of Availability

Responsible Agency: Office of Federal Activities, General Information 202-564-5632 or https://www.epa.gov/nepa/.

Weekly receipt of Environmental Impact Statements

Filed 11/18/2019 10 a.m. ET Through 11/25/2019 10 a.m. ET

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190281, Draft, USACE, LA, Upper Barataria Basin, Louisiana Draft Feasibility Study, Comment Period Ends: 01/13/2020, Contact: Patricia Naquin 504-862-1544

EIS No. 20190282, Draft, USA, LA, Amite River and Tributaries East of Mississippi River, Louisiana, Comment Period Ends: 01/13/2020, Contact: US Army Corps of Engineers 504-862-1014

EIS No. 20190283, Final, USFS, UT, High Uintas Wilderness Colorado River Cutthroat Trout Habitat Enhancement, Review Period Ends: 12/31/2019, Contact: Ronald Brunson 435-781-5202

EIS No. 20190284, Draft, USACE, CA, Draft Integrated Feasibility Report and Environmental Impact Statement/Environmental Impact Report (IFR/EIS/EIR) for the East San Pedro Bay Ecosystem Restoration Feasibility Study, Comment Period Ends: 01/27/2020, Contact: Naeem Siddiqui 213-452-3852

Amended Notice

EIS No. 20190260, Draft, USACE, CA, Port of Long Beach Deep Draft Navigation Feasibility Study, Comment Period Ends: 12/09/2019, Contact: Larry Smith 213-452-3846 Revision to FR Notice Published 10/25/2019; Correcting Lead Agency from BR, USACE to USACE.

Dated: November 25, 2019.
Robert Tomiak,
Director, Office of Federal Activities.

[FR Doc. 2019-25877 Filed 11-27-19; 8:45 am]

BILLING CODE 6560-50-P